POSTAL SERVICE

39 CFR Part 111

Delivery of Mail to a Commercial Mail Receiving Agency

AGENCY: Postal Service.

ACTION: Final rule.

SUMMARY: This final rule adopts a proposal to amend section D042.2.6e of the Domestic Mail Manual (DMM) to provide an additional secondary address designation that may be used in the delivery address for mail to holders of private mailboxes at commercial mail receiving agencies.

EFFECTIVE DATE: August 16, 2000. All parties must comply with the amendment to D042.2.6e by August 1, 2001.

FOR FURTHER INFORMATION CONTACT: Larry Maxwell, 202-268-5015.

SUPPLEMENTARY INFORMATION: On March 13, 2000, the Postal Service published in the Federal Register a proposed rule to amend section D042.2.6e of the Domestic Mail Manual (65 FR 13258-13260). The original rule was published as part of a comprehensive clarification and revision of rules concerning delivery of mail to commercial mail receiving agencies (CMRAs) published on March 25, 1999 (64 FR 14385-14391). DMM section D042.2.6e established specific provisions for addressing mail to a holder of a private mailbox at a CMRA. As originally promulgated, the standard provided that the address must include a specific secondary address designation: “PMB” (for “private mailbox”) followed by a number assigned to the boxholder by the CMRA. Under the proposed change, CMRA private mailbox holders would have the option to use either “PMB” or “#” as the secondary address designation.

The secondary address designation, as discussed in the proposed rule and earlier notices regarding the CMRA standards, was intended to serve consumer protection interests. Previously, postal regulations had not prescribed the manner in which mail to CMRA private mailbox holders must be addressed, and many private mailbox holders have used a designation (e.g., “Suite” or “Apartment”) along with the street address of the CMRA. This practice implied to senders of mail that the boxholder maintained a physical presence at that location. These addressing practices create the opportunity for fulfillment of criminal fraud schemes. However, and as described in some comments, even where this was not the case, the practice may be deceptive to consumers or others. For example, consumers who desire to provide charitable donations to local organizations or to make purchases from local businesses might mistakenly believe they are doing so when they respond to an out-of-state organization or firm with an address at a local CMRA. For similar reasons, the local business or charity might also suffer a competitive disadvantage from this practice.

Accordingly, the original rule was intended to serve consumer protection interests by providing the public with a means to be aware whether an address represented a physical location. However, the Postal Service later became aware the standard might have an unintended consequence. In meetings with industry representatives, it was pointed out that the “PMB” designation might adversely affect small businesses. The March 13, 2000, proposal, which permitted the use of either “PMB” or “#” as the secondary address designation, was intended as a means to balance the consumer and small business interests.

The Postal Service received 20,456 comments on the rulemaking. These were roughly comprised of three groups. The largest group (20,153 comments) supports the rulemaking. These comments, which were generally submitted by CMRA owners or private mailbox holders, were identical in content and format, and favored adopting the use of “PMB” or the optional “#” as the secondary designation. It also appears likely from the submissions that many of the commenters view this as a compromise, and that they would be at least as satisfied with the elimination of any required secondary address designation. However, if a secondary address designation was required, these commenters considered “#” to be preferable to “PMB.”

The smallest group (12 comments) expressly opposes the requirement for a secondary address designation. Representatives of small business groups and some CMRA private mailbox holders submitted these comments. They questioned whether there are appreciable fraud statistics to support the need for CMRA regulations. Some of these comments also appear to oppose any postal standards concerning the delivery of mail to CMRAs. To the extent these comments concern standards other than those proposed in DMM D042.2.6e, they are beyond the scope of this rulemaking.

The remaining 291 comments oppose the proposed rule that allows the use of “PMB” or the optional “#” as the secondary designation. These comments were generally submitted by groups representing consumer protection constituencies, such as state attorney generals, an association of state charity officials, and an association of financial crimes investigators, as well as address list maintenance vendors, an association of presort mailers, major mailers, individual consumers, and private mailbox holders. These commenters urge the requirement for use of the “PMB” secondary address designation be retained without an option to use “#” as an alternative. They observe the “#” designation may be confusing to senders of mail, who believe it represents a physical location. The comments also question whether the use of “PMB” will adversely affect small businesses, and, in any event, assert private mailbox holders should not be permitted to use addresses that falsely imply a physical presence at the location. Significantly, some commenters appear to believe that, as proposed, D042.2.6e would have a negative impact on consumer protection interests.

Based on its review of the current record, the Postal Service has determined to adopt the proposed revision to DMM D042.2.6e that allows the use of “PMB” or the optional “#”, in certain conditions, as the secondary address designation for a CMRA customer.

At the outset, it should be noted that the Postal Service rejects any assertion that it lacks authority to promulgate rules to protect consumer protection interests. The Postal Reorganization Act establishes Postal Service responsibilities to protect citizens from fraudulent and deceptive practices through use of the mails. The Postal Service efforts in this area are widespread and ongoing; these efforts are not targeted at CMRAs. They include initiatives directed at frauds conducted through post office boxes; street addresses (rural and city delivery); and anywhere else, including fraudulent solicitations appearing first on the Internet that direct payment and shipment through the mails. Moreover, an important part of any anti-fraud strategy incorporates preventive means and consumer education so those consumers can protect themselves before becoming a victim. The modifications to the CMRA addressing standards reduce the possibilities consumers may be misled or confused by certain mailing address terminology. It is also noted that virtually all commenters and organizations that have participated in this process have voiced their support for protection of consumer interests and the Postal Service's role in this area.

The Postal Service disagrees with comments that DMM section D042.2.6e, especially as amended, will be harmful to small business interests. Discussions with CMRA industry representatives, who certainly have an interest in protecting their clientele, prior to the publication of the proposed rule and comments received from these interests and many CMRA owners and private mailbox holders support the conclusion that the proposal provides a viable compromise for small businesses.

Some commenters contend the “#” will cause D042.2.6e to be meaningless and ineffective, if not counterproductive. They observe that businesses should not be permitted to imply to potential customers that they are physically located at an address when that is not true, even if that deception is merely used by reputable businesses to obtain a competitive edge rather than for criminal purposes. These consumer advocates assert the use of “#” currently implies a “suite” or “apartment” and that addressees will continue in the future to assume that it implies a physical location at that address.

The Postal Service understands these concerns. Indeed, absent measures to ensure consumers will have the means to understand what “#” may mean and tools to determine whether a specific address is located at a CMRA, the concerns could warrant withdrawal of the rulemaking. However, the Postal Service and the CMRA industry will jointly implement the following initiatives with the hope of minimizing these possibilities:

1. Educate the public on the meanings of both the “PMB” and “#” designations. The Postal Service also stands ready to work with both the CMRA industry and consumer groups to design these materials and the means to distribute them to maximize public awareness.

2. The Postal Service will establish methods (toll-free number and/or Postal Service Web site) that can be accessed to determine whether a street address is the location of a CMRA. This will enable persons who receive mail with a “#” designation to determine whether the sender is a CMRA boxholder.

3. The Postal Service will continue efforts to work directly with the CMRA industry to address areas of continued concern. The industry is working with the Postal Service to ensure implementation of the postal standards concerning delivery of mail to CMRAs. Additionally, some industry members voluntarily participate in a Postal Inspection Service training program to recognize and report improper activity at CMRA locations.

4. The Postal Inspection Service has improved its data collection regarding the number of cases involving the use of off-premises delivery services, including post office boxes, for fraudulent purposes.

In view of these steps, the Postal Service adopts the proposal to allow the use of the “#” sign as an additional secondary addressing option for CMRA boxholders.

Several other aspects of the rulemaking also bear explanation. The standard adopted on March 25, 1999, required the use of a four-line address format. Under the final rule, this remains the preferred format. However, it was proposed that customers have the option to use a three-line format, with one exception, where the “#” secondary address designation is used and the physical address of the CMRA contains a secondary address designation, or the delivery address is a rural route box style address. In these limited instances, use of the “#” designation is not allowed, which is necessary to ensure the Postal Service's automated equipment can accurately process the mail. The new standards accommodate these desires to use a three-line format, as long as that mail can be effectively processed by Postal Service equipment.

The effective date of section D042.2.6e is August 1, 2001. Whenever possible, the Postal Service encourages mailers to use the new standards earlier. Nevertheless, the extended deadline for compliance with the standard is consistent with the Postal Service's goal of minimizing the implementation costs to CMRAs and their customers. It allows CMRA customers to deplete existing stationery and to advise correspondents of the new designation in the ordinary course of business.

For the reasons discussed above, the Postal Service hereby adopts the following amendments to the Domestic Mail Manual, which is incorporated by reference in the Code of Federal Regulations (see 39 CFR part 111.1).

List of Subjects in 39 CFR Part 111

Postal Service.

PART 111—[AMENDED]

1. The authority citation for 39 CFR part 111 continues to read as follows:

Authority: 5 U.S.C. 552(a); 39 U.S.C. 101, 401, 403, 404, 3001-3011, 3201-3219, 3403-3406, 3621, 5001.

2. The Domestic Mail Manual (DMM) is amended by revising modules A, D, and F to read as follows:

A ADDRESSING

A000 Basic Addressing

A010 General Addressing Standards

1.0 ADDRESS CONTENT AND PLACEMENT

* * * * *

1.2 Address Elements

[Revise item b as follows:]

* * * * *

b. Private mailbox designator (PMB or optional #) and number.

* * * * *

3.0 COMPLETE ADDRESS

* * * * *

3.2 Elements

[Revise item b as follows:]

* * * * *

b. Private mailbox designator and number (PMB 300 or #300).

* * * * *

5.0 RESTRICTIONS

* * * * *

[Revise 5.3 as follows:]

5.3 Mail Addressed to CMRAs

Mail sent to an addressee at a commercial mail receiving agency (CMRA) must be addressed to their private mailbox (PMB or #) number at the CMRA mailing address.

* * * * *

D DEPOSIT, COLLECTION, AND DELIVERY

D000 Basic Information

* * * * *

D040 Delivery of Mail

* * * * *

D042 Conditions of Delivery

* * * * *

2.0 DELIVERY TO ADDRESSEE'S AGENT

* * * * *

2.6 Delivery to CMRA

* * * * *

e. A CMRA must represent its delivery address designation for the intended addressees by the use of “PMB” (private mailbox) or the alternative “#” sign. Mailpieces must bear a delivery address that contains the following elements, in this order:

Preferred Format

(1) Line 1: Intended addressee's name or other identification. Examples: JOE DOE or ABC CO.

(2) Line 2: PMB and number or the alternative # sign and number. Examples: PMB 234 or #234.

(3) Line 3: Street number and name or post office box number or rural route designation and number. Examples: 10 MAIN ST or PO BOX 34 or RR 1 BOX 12.

(4) Line 4: City, state, and ZIP Code (5-digit or ZIP+4).

Example: HERNDON VA 22071-2716. Examples of acceptable four-line format addresses are:

JOE DOE

PMB 234

RR 1 BOX 12

HERNDON VA 22071-2716

or

JOE DOE

#234

10 MAIN ST STE 11

HERNDON, VA 22071-2716

Alternate Format

(1) Line 1: Intended addressee's name or other identification. Examples: JOE DOE or ABC CO.

(2) Line 2: Street number and name or post office box number and PMB and number or the alternative # sign and number. Examples: 10 MAIN ST PMB 234 or #234 or PO BOX 34 PMB 234 or #234.

(3) Line 3: City, state, and ZIP Code (5-digit or ZIP+4). Example: HERNDON VA 22071-2716.

Exception: When the CMRA physical address contains a secondary address element (e.g., rural route box number, “suite”, “#,” or other term), the CMRA customer must use “PMB” in the three-line format.

In this case, the following must be used:

JOE DOE

10 MAIN ST STE 11 PMB 234

HERNDON VA 22071-2716

and

JOE DOE

RR 12 BOX 512 PMB 234

HERNDON VA 22071-2716

It is also not permissible to combine the secondary address element of the physical location of the CMRA address and the CMRA customer private mailbox number, e.g., 10 MAIN ST STE 11-234. The CMRA must write the complete CMRA delivery address used to deliver mail to each individual addressee or firm on Form 1583 (block 3). The Postal Service may return mail without a proper address to the sender endorsed “Undeliverable as Addressed, Missing PMB or # Sign.”

* * * * *

F FORWARDING AND RELATED SERVICES

F000 Basic Services

F010 Basic Information

* * * * *

4.0 BASIC TREATMENT

Exhibit 4.1 USPS Endorsements for Mail Undeliverable as Addressed [Revise Exhibit 4.1 to add new endorsement.]

* * * * *

Undeliverable as Addressed, Missing PMB or # Sign

Failure to Comply with D042.2.6e.

* * * * *

Notice of issuance of the transmittal letter will be published in the Federal Register as provided by 39 CFR 111.3.

Stanley F. Mires,
Chief, Counsel Legislative.

[FR Doc. 00-20812 Filed 8-15-00; 8:45 am]

BILLING CODE 7710-12-U